DEPARTMENT OF LABOR

Employment and Training Administration

[TA-W-42,214]

SPX Valves and Controls, Sartell, MN; Notice of Termination of Investigation

Pursuant to section 221 of the Trade Act of 1974, an investigation was initiated on October 7, 2002, in response to a worker petition filed by the International Association of Machinists and Aerospace Workers, District Lodge No. 165, on behalf of workers at SPX Valves and Controls, Sartell, Minnesota.

The petitioner has requested that the petition be withdrawn. Consequently, further investigation in this case would serve no purpose, and the investigation has been terminated.

Signed in Washington, DC, this 5th day of December 2002.
Richard Church,
Certifying Officer, Division of Trade Adjustment Assistance.

[FR Doc. 02-32230 Filed 12-20-02; 8:45 am]

BILLING CODE 4510-30-P